DEPARTMENT OF HOMELAND SECURITY

Federal Emergency Management Agency

44 CFR Part 67

[Docket No. FEMA-D-7578]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA proposes to make determinations of BFEs and modified BFEs for each community listed below, in accordance with Section 110 of the Flood Disaster Protection Act of 1973, 42 U.S.C. 4104, and 44 CFR 67.4(a).

These proposed base flood and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground *Elevation in feet (NGVD) •Elevation in feet (NAVD): Existing | #Depth in feet above ground *Elevation in feet (NGVD) •Elevation in feet (NAVD): Modified | Communities affected
ILLINOIS
City of Springfield and the Unincorporated Areas of Sangamon County
Town Branch | At confluence with Spring Creek | *536 | *540 | City of Springfield, Sangamon County (Unincorporated Areas).
| At Lincoln Avenue | *538 | *540
Unnamed Tributary I | At confluence with Spring Creek | *543 | *548 | City of Springfield, Sangamon County (Unincorporated Areas).
| Approximately 5,600 feet upstream of confluence with Spring Creek | *543 | *548 |
Unnamed Tributary II | At confluence with Tributary I | *543 | *548 | City of Springfield, Sangamon country (Unincorporated Areas).
| Approximately 2,000 feet upstream of confluence with Unnamed Tributary I | *543 | *548
Sangamon County (Unincorporated Areas)
Maps available for inspection at the Springfield-Sangamon County Regional Planning Commission, 200 South 9th Street, Room 212, Springfield, Illinois.
Send comments to Mr. Andy Van Meter, Chairman of the Sangamon County Board of Commissioners, 200 South 9th Street, Room 201, Springfield, Illinois 62701.
City of Springfield:
Maps available for inspection at the City of Springfield Public Works Department, 300 East Monroe Street, Room 201, Springfield, Illinois or at the Springfield-Sangamon County Regional Planning Commission, 200 South 9th Street, Room 212, Springfield, Illinois.
Send comments to the Honorable Timothy Davlin, Mayor of the City of Springfield, 800 East Monroe Street, Springfield, Illinois 62701.
MARYLAND
Baltimore County (Unincorporated Areas)
Herbert Run | Approximately 350 feet upstream of confluence with Patapsco River | *17 | *25 | Baltimore County upstream of (Unincorporated Areas).
| At confluence East amd West Branch Herbert Run | *46 | *39
East Branch Herbert Run | At confluence with Herbert Run | *46 | *39 | Baltimore County (Unincorporated Areas).
| Approximately 850 feet upstream of Wilkens Avenue | None | *159
West Branch Herbert Run | At confluence with Herbert Run | 47 | *39 | Baltimore County (Unincorporated Areas).
| Approximately 0.64 mile upstream of Sulphur Spring Road | None | 119
Arbutus Run | At confluence with East Branch Herbert Run | *80 | *79 | Baltimore County (Unincorporated Areas).
| Just downstream of Interstate 695 | None | *131
Baltimore County (Unincorporated Areas)
Maps available for inspection at the Baltimore County Office Building, Room 307, 111 West Chesapeake Avenue, Towson, Maryland.
Send comments to Mr. James T. Smith, Jr., Baltimore County Executive, 400 Washington Avenue, Old Courthouse Mezzanine, Towson, Maryland 21204.
St. Mary's County
Back Creek | Approximately 0.62 mile upstream of confluence with Cuckold Creek | None | •6 | St. Mary's County (Unincorporated Areas).
| Approximately 1.25 miles upstream of confluence with Cuckold Creek | None | •22
Blake Creek | Approximately 1.14 miles upstream of confluence with Potomac River | •4 | •5 | St. Mary's County (Unincorporated Areas).
| Approximately 1.70 miles upstream of confluence with Potomac River | None | •13 |
Broad Run | At the confluence with Brooks Run | None | •82 | St. Mary's County (Unincorporated Areas).
| Approximately 0.17 mile upstream of confluence with Brooks Run | None | •82
Brooks Run | At the confluence with McIntosh Run | None | •43 | St. Mary's County (unincorporated areas).
| Approximately 1.24 miles upstream of confluence with McIntosh Run | None | •83
Budds Creek | Approximately 0.5 mile upstream of confluence with Wicomico River | •5 | •6 | St. Mary's County (Unincorporated Areas).
| Approximately 1.1 miles upstream of State Route 234 | None | •64
Budds Creek Tributary 1 | At the confluence with Budds Creek | None | •15 | St. Mary's County (Unincorporated Areas.
| Approximately 0.5 mile upstream of the confluence with Budds Creek | None | •25
Bull Run | Approximately 0.19 mile upstream of confluence with Chapico Creek | •5 | •6 | St. Mary's County (Unincorporated Areas).
| Approximately 0.3 mile upstream of Manor Road | None | •49
Burnt Mill Creek | Approximately 750 feet upstream of confluence with McIntosh Run | None | •33 | St. Mary's County (Unincorporated Areas).
| At confluence of Burnt Mill Creek Tributary | None | •88
Burnt Mill Creek Tributary | At confluence with Burnt Mill Creek | None | •88 | St. Mary's County (Unincorporated Areas).
| Approximately 0.36 mile upstream of confluence with Burnt Mill Creek | None | •96
Burroughs Run | At confluence with Bull Run | None | •10 | St. Mary's County (Unincorporated Areas).
| Approximately 0.37 mile upstream of confluence with Bull Run | None | •17
Canoe Neck Creek Tributary | Approximately 0.24 mile upstream of Canoe Neck Creek | •5 | •6 | St. Mary's County (Unincorporated Areas).
| Approximately 0.94 mile upstream of confluence with Canoe Neck Creek | None | •21
Carthagena Creek | Approximately 0.86 mile downstream of Drayden Road | •4 | •5 | St. Mary's County (Unincorporated Areas).
| Approximately 1,680 feet upstream of Drayden Road | None | •27
Cat Creek | Approximately 0.79 mile upstream of confluence with Patuxent River | •6 | •7 | St. Mary's County (Unincorporated Areas).
| Approximately 1.85 miles upstream of confluence with Patuxent River | None | •24
Chaptico Creek (Downstream Portion) | Approximately 2,243 feet upstream of the confluence with Bull Run | •5 | •6 | St. Mary's County (Unincorporated Areas).
| At confluence with Nelsons Run | •5 | •6
Chaptico Creek (Upstream Portion) | Approximately 400 feet downstream of confluence with Lacy Run | •56 | •55 | St. Mary's County (Unincorporated Areas).
| Approximately 3.1 miles upstream of confluence of Lacy Run | None | •177
Church Creek | Approximately 850 feet downstream of State Route 5 | •4 | •5 | St. Mary's County (Unincorporated Areas).
| Approximately 1,585 feet upstream of State Route 5 | None | •16
Church Creek Tributary | At confluence with Church Creek | None | •14 | St. Mary's County (Unincorporated Areas).
| Approximately 1,160 feet upstream of the confluence with Church Creek | None | •16
Coatigan Run | Approximately 0.66 mile upstream of confluence with Patuxent River | •6 | •7 | St. Mary's County (Unincorporated Areas).
| Approximately 2.04 miles upstream of confluence with Patuxent River | None | •29
Coffee Hill Run | Approximately 1.03 miles upstream of confluence with Chaptico Creek | None | •28 | St. Mary's County (Unincorporated Areas).
| Approximately 0.47 mile upstream of Bethel Church Road | None | •86
Cuckold Creek | Approximately 1.17 miles upstream of confluence with Forrest Landing Cove | None | •6 | St. Mary's County (Unincorporated Areas).
| Approximately 1.44 miles upstream of confluence with Forrest Landing Cove | None | •12
Cuckold Creek Tributary 1 | Approximately 0.6 mile downstream of Sotterley Road | None | •6 | St. Mary's County (Unincorporated Areas).
| Approximately 0.47 mile upstream of Sotterley Road | None | •24
Cuckold Creek Tributary 2 | At confluence with Cuckold Creek Tributary 1 | None | •15 | St. Mary's County (Unincorporated Areas).
| Approximately 600 feet upstream of confluence with Cuckold Creek Tributary 1 | None | •16
Cuckold Creek Tributary 3 | At confluence with Cuckold Creek Tributary 1 | None | •17 | St. Mary's County (Unincorporated Areas).
| Approximately 0.43 mile upstream of confluence with Cuckold Creek Tributary 1 | None | •26
Dynard Run | Approximately 800 feet downstream of Colton Point Road | •5 | •6 | St. Mary's County (Unincorporated Areas).
| Approximately 1.03 miles upstream of Colton Point Road | None | •37
Eastern Branch | Approximately 400 feet upstream of confluence with Hilton Run | •4 | •5 | St. Mary's County (Unincorporated Areas).
| Approximately 1.7 miles upstream of confluence with Pembrook Run | None | •51
Fisherman Creek | Approximately 595 feet upstream of Saint Mary's River | • 4 | • 5 | St. Mary's County (Unincorporated Areas).
| Approximately 1.32 miles upstream of State Route 5 | None | • 20 |
Fisherman Creek Tributary | At confluence with Fisherman Creek | None | • 10 | St. Mary's County (Unincorporated Areas).
| Approximately 0.40 mile upstream of confluence with Fisherman Creek | None | • 18 |
Forrest Hall Branch | Approximately 0.84 mile upstream of confluence with Hayden Run | None | • 50 | St. Mary's County (Unincorporated Areas).
| Approximately 1.4 miles upstream of Foley Mattingly Road | None | • 98 |
Glebe Run | Approximately 1,470 feet downstream of State Route 5 | • 5 | • 6 | St. Mary's County (Unincorporated Areas).
| Approximately 1.25 miles upstream of State Route 5 | None | • 40 |
Gravely Run | At the confluence with Glebe Run | None | • 20 | St. Mary's County (Unincorporated Areas).
| Approximately 1.15 miles upstream of State Route 471 | None | • 57 |
Greenhill Run | Upstream of Maypole Road | None | • 19 | St. Mary's County (Unincorporated Areas).
| Approximately 0.45 mile upstream of Maypole Road | None | • 37 |
Hayden Run | Approximately 400 feet upstream of confluence with Forrest Hall Branch | None | • 39 | St. Mary's County (Unincorporated Areas).
| Approximately 2.75 miles upstream of confluence with Forrest Hall Branch | None | • 90 |
Herring Creek | Approximately 1.1 miles downstream of Beauvue Road | • 4 | • 8 | St. Mary's County (Unincorporated Areas).
| Approximately 0.44 mile upstream of Beauvue Road | None | • 22 |
Horse Landing Creek | Approximately 0.31 mile upstream of confluence with Patuxent River | • 6 | • 7 | St. Mary's County (Unincorporated Areas).
| Approximately 1.85 miles upstream of confluence with Patuxent River | None | • 34 |
Indian Creek | At confluence with Unnamed Creek 1 | None | • 6 | St. Mary's County (Unincorporated Areas).
| Approximately 3.6 miles upstream of confluence with Unnamed Creek 1 | None | • 94 |
Indiantown Creek | Approximately 950 feet upstream of confluence with Chaptico Bay | None | • 5 | St. Mary's County (Unincorporated Areas).
| Approximately 0.93 mile upstream of confluence with Chaptico Bay | None | • 27 |
Johns Creek | Approximately 1,200 feet upstream of confluence with St. Mary's River | None | • 16 | St. Mary's County Unincorporated Areas).
| Approximately 0.89 mile upstream of State Route 249 | None | • 71 |
Killpeck Creek | Approximately 400 feet upstream of confluence of Lockes Swamp Creek | None | • 6 | St. Mary's County (Unincorporated Areas).
| Approximately 4.04 miles upstream of confluence with Lockes Swamp Creek | None | • 90 |
Lacy Run | At confluence with Chaptico Creek | None | • 57 | St. Mary's County (Unincorporated Areas).
| Approximately 1.19 miles upstream of confluence with Chaptico Creek | None | • 91 |
Lockes Swamp Creek | Approximately 0.31 mile upstream of confluence with Killpeck Creek | • 6 | • 7 | St. Mary's County (Unincorporated Areas).
| Approximately 4.43 miles upstream of confluence with Killpeck Creek | None | • 95 |
Locust Run | At confluence with St. Clements Creek | None | • 37 | St. Mary's County (Unincorporated Areas).
| Approximately 1.31 miles upstream of confluence with St. Clements Creek | None | • 63 |
Lows Run | At the confluence with Brooks Run | None | • 65 | St. Mary's County (Unincorporated Areas).
| Approximately 0.4 mile upstream of St. Johns Road | None | • 83 |
McIntosh Run | Approximately 0.55 mile downstream of Pleasant Valley Avenue | None | • 39 | St. Mary's County (Unincorporated Areas).
| Approximately 0.91 mile upstream of Secretariat Drive | None | • 83 |
Miski Run | Approximately 0.2 mile upstream of confluence with McIntosh Run | None | • 28 | St. Mary's County (Unincorporated Areas).
| Approximately 0.59 mile upstream of Maypole Road | None | • 88 |
Moll Dyers | Approximately 0.46 mile downstream of State Route 244 | • 5 | • 6 | St. Mary's County (Unincorporated Areas).
| Approximately 0.64 mile upstream of State Route 5 | None | • 55 |
Nelson Run | Approximately 520 feet upstream of confluence with McIntosh Run | • 9 | • 10 | St. Mary's County (Unincorporated Areas).
| Approximately 2.1 miles upstream of confluence with McIntosh Run | None | • 63 |
Nelson's Run | At confluence with Chaptico Creek | • 5 | • 6 | St. Mary's County (Unincorporated Areas).
| Approximately 1.39 miles upstream of confluence with Chaptico Creek | None | • 47 |
Pembrook Run | At confluence with Eastern Branch | None | •19 | St. Mary's County (Unincorporated Areas).
| Approximately 1.55 miles upstream of confluence with Eastern Branch | None | • 55 |
Persimmon Creek | Approximately 0.41 mile downstream of New Market Turner Road | • 6 | • 7 | St. Mary's County (Unincorporated Areas).
| Approximately 0.4 mile upstream of confluence of Persimmon Creek Tributary 1 | None | • 54
Persimmon Creek Tributary 1 | At confluence with Persimmon Creek. Approximately 0.96 mile upstream of confluence with Persimmon Creek | None | • 18 | St. Mary's County (Unincorporated Areas).
Pine Hill Run | Approximately 0.22 mile upstream of confluence with Chesapeake Bay | • 4 | • 5 | St. Mary's County (Unincorporated Areas).
| Approximately 0.88 mile upstream of confluence with Chesapeake Bay | • 4 | • 8
Poplar Hill Creek | Approximately 500 feet downstream of Tower Hill Road | • 6 | • 7 | St. Mary's County (Unincorporated Areas).
| Approximately 1.0 mile upstream of Medleys Creek Road | None | • 37
Rich Neck Creek | At confluence with Burnt Mill Creek | None | • 42 | St. Mary's County (Unincorporated Areas).
| Approximately 1.47 miles upstream of confluence with Burnt Mill Creek | None | • 71
Saint Clements Creek | Approximately 350 feet upstream of confluence of Dynard Run | • 5 | • 6 | St. Mary's County (Unincorporated Areas).
| Approximately 1.3 miles upstream of confluence of St. Clements Creek Tributary 1 | None | • 82
Saint Clements Creek Tributary 1 | At confluence with St. Clements Creek | None | • 60 | St. Mary's County (Unincorporated Areas).
| Approximately 2.3 miles upstream of confluence with St. Clements Creek | None | • 85
Saint Clements Creek Tributary 2 | At confluence with St. Clements Creek | None | • 27 | St. Mary's County (Unincorporated Areas).
| Approximately 0.84 mile upstream of confluence with St. Clements Creek | None | • 46
St. Inigoes Creek | Approximately 80 feet upstream of State Route 5 | None | • 6 | St. Mary's County (Unincorporated Areas).
| Approximately 0.49 mile upstream of State Route 5 | None | • 14
St. Mary's River | Approximately 950 feet upstream of confluence with Jarboesville Run | • 28 | • 29 | St. Mary's County (Unincorporated Areas).
| Approximately 0.98 mile upstream of State Route 4 | None | • 95
St. Mary's River Tributary 1 | At confluence with St. Mary's River | None | • 51 | St. Mary's County (Unincorporated Areas).
| Approximately 1.22 miles upstream of confluence with St. Mary's River | None | • 70
St. Mary's River Tributary 2 | At confluence with St. Mary's River Tributary 1 | None | • 53 | St. Mary's County (Unincorporated Areas).
| Approximately 0.26 mile upstream of confluence with St. Mary's River Tributary 1 | None | • 70
St. Mary's River Tributary 3 | At confluence with St. Mary's River Tributary 1 | None | • 65 | St. Mary's County (Unincorporated Areas).
| Approximately 0.27 mile upstream of confluence with St. Mary's River Tributary 1 | None | • 71
St. Thomas Creek | Approximately 1.1 miles upstream of confluence with Patuxent River | None | • 5 | St. Mary's County (Unincorporated Areas).
| Approximately 1.5 miles upstream of confluence with Patuxent River | None | • 9
Tom Swamp Run | At confluence with Rich Neck Creek | None | • 45 | St. Mary's County (Unincorporated Areas).
| Approximately 2.35 miles upstream of confluence with Rich Neck Creek | None | • 85
Tomakokin Creek | Approximately 0.32 mile downstream of SR 470 | • 5 | • 6 | St. Mary's County (Unincorporated Areas).
| Approximately 0.5 mile upstream of Bushwood Road | None | • 52
Town Run | At confluence with Brenton Bay | None | • 5 | St. Mary's County (Unincorporated Areas), Town of Leonardtown.
| Approximately 1.8 miles upstream of Leonardtown Point Lookout Road | None | • 79
Unnamed Creek 1 | At confluence with Indian Creek | None | • 6 | St. Mary's County (Unincorporated Areas).
| Approximately 2.3 miles upstream of confluence with Indian Creek | None | • 64
Unnamed Creek 2 | Approximately 0.58 mile upstream of confluence with Patuxent River | • 6 | • 7 | St. Mary's County (Unincorporated Areas).
| Approximately 1.57 miles upstream of confluence with Patuxent River | None | • 22
Unnamed Tributary to St. Clements Bay | Approximately 0.35 mile upstream of confluence with St. Clements Bay | • 5 | • 6 | St. Mary's County (Unincorporated Areas).
| Approximately 1.23 miles upstream of confluence with St. Clements Bay | None | • 32
Warehouse Run | Approximately 600 feet downstream of Flat Iron Road | • 5 | • 8 | St. Mary's County (Unincorporated Areas).
| Approximately 0.60 mile upstream of Flat Iron Road | None | • 28
Western Branch | Approximately 970 feet upstream of confluence with St. Mary's River | • 24 | • 25 | St. Mary's County (Unincorporated Areas).
| Approximately 2.27 miles upstream of confluence of Western Branch Tributary 3 | None | • 94
Western Branch Tributary 1 | At the confluence with Western Branch | None | • 58 | St. Mary's County (Unincorporated Areas).
| Approximately 1.1 miles upstream of confluence with Western Branch | None | • 68
Western Branch Tributary 2 | At the confluence with Western Branch | None | • 70 | St. Mary's County (Unincorporated Areas).
| Approximately 0.49 mile upstream of confluence with Western Branch | None | • 70
Western Branch Tributary 3 | At the confluence with Western Branch | None | • 71 | St. Mary's County (Unincorporated Areas).
| Approximately 0.37 mile upstream of the confluence with Western Branch | None | • 71 | St. Mary's County (Unincorporated Areas).
White Neck Creek Tributary | Approximately 1,000 feet downstream of Jack Gibson Road | • 5 | •6 | St. Mary's County (Unincorporated Areas).
| At Colton Point Road | None | • 12
St. Mary's County (Unincorporated Areas)
Maps available for inspection at the St. Mary's County Office of Land Use and Growth Management, 23150 Leonard Hall Drive, Leonardtown, Maryland.
Send comments to Mr. Thomas F. McKay, President of the St. Mary's County Board of Commissioners, P.O. Box 653, 23115 Leonard Hall Drive, Leonardtown, Maryland 20650.
Town of Leonardtown
Maps available for inspection at the Leonardtown Town Hall, 41675 Park Avenue, Leonardtown, Maryland.
Send comments to the Honorable J. Harry Norris, III, Mayor of the Town of Leonardtown, P.O. Box 1, Leonardtown, Maryland 20650.
NEW HAMPSHIRE
Rockingham County
Exeter River | Approximately 850 feet northeast of the intersection of Great Oak and Pheasant Run Drive at the corporate limits of the Town of Chester and the Town of Raymond | None | *165 | Town of Chester.
Powwow Pond | North of Boston and Maine Railroad | None | *119 | Town of East Kingston.
| South of Boston and Maine Railroad | None | *118
Lamprey River | Approximately 950 feet downstream of Prescott Road | *163 | *164 | Town of Epping.
| Approximately 300 feet of upstream of Prescott Road | None | *167
Piscassic River | Approximately 0.57 mile downstream of upstream corporate limits | None | *105 | Town of Exeter.
| At upstream corporate limits | None | *108
Piscataqua River | North of State Route 18 (East of Pierce Island) | *11 | *9 | Town of New Castle.
Country Pond | Entire shoreline within community | None | *121 | Town of Newton.
Little River No. 3 | At upstream corporate limits | None | *103 | Town of Newton.
| At downstream corporate limits | None | *103
Flatrock Branch | Approximately 150 feet downstream | None | *163 | Town of Salem.
| At confluence with Shadow Lake | None | *162
Squamscott River | At downstream side of Boston and Maine Railroad bridge | *8 | *7 | Town of Stratham.
| At downstream corporate limits | *8 | *7
Lamprey River | Approximately 1.3 miles upstream of Alternate Route 101 | None | *217 | Town of Candia.
| Approximately 1.77 miles upstream of Alternate Route 101 | None | *217
Great Bay/Little Bay | Entire shoreline within the community | None | *7 | Town of Newington.
Piscataqua River | From the Spaulding Turnpike bridge to the Greenland/Portsmouth corporate limits | None | *9 | Town of Newington.
Pickering Brook | At the Greenland/Portsmouth corporate limits | None | *27 | City of Portsmouth.
| Approximately 2,300 feet upstream of Greenland/Portsmouth corporate limits | None | *27
Town of Candia:
Maps available for inspection at the Candia Town Office, 74 High Street, Candia, New Hamsphire.
Send comments to Mr. Clark Thyng, Chairman of the Town of Candia Board of Selectmen, Town Office, 74 High Street, Candia New Hampshire 030334-2751.
Town of Chester:
Maps available for inspection at the Town of Chester Municipal Office Building, 84 Chester Street, Chester, New Hampshire.
Send comments to Mr. Geoffrey Barnett, Chairman of the Town of Chester Board of Selectmen, P.O. Box 275, Chester, New Hampshire 03036.
Town of East Kingston:
Maps available for inspection at the East Kingston Town Office, 24 Depot Road, East Kingston, New Hampshire.
Send comments to Mr. Raymond R. Donald, Chairman of the Town of East Kingston Board of Selectmen, Town Office, 24 Depot Road, East Kingston, New Hampshire 03827.
Maps Available for inspection at the Epping Town Hall, 157 Main Street, Epping, New Hampshire.
Send comments to Mr. Tom Gauthier, Chairman of the Town of Epping Board of Selectmen, Town Hall, 157 Main Street, Epping, New Hampshire 03042.
Town of Exeter:
Maps available for inspection at the Exeter Town Office, 10 Front Street, Exeter, New Hampshire.
Send comments to Mr. Paul Binette, Chairman of the Town of Exeter Board of Selectmen, Town Office Building, 10 Front Street, Exeter, New Hampshire 03833.
Town of Newington:
Maps available for inspection at the Newington Town Office, 205 Nimble Hill Road, Newington, New Hampshire.
Send comments to Mr. Jack O'Reilly, Chairman of the Town of Newington Board of Selectmen, 205 Nimble Hill Road, Newington, New Hampshire 03801.
Town of Newton:
Maps available for inspection at the Newton Town Hall, Town Hall Road, Newton, New Hampshire.
Send comments to Mr. Stephen Cushing, Chairman of the Town of Newtown Board of Selectmen, P.O. Box 378, Newton, New Hampshire 03858.
City of Portsmouth:
Maps available for inspection at the City of Portsmouth Municipal Complex, Planning Department, 3rd Floor, 1 Junkins Avenue, Portsmouth, New Hampshire.
Send comments to Mr. John P. Bohenko, Portsmouth City Manager, 1 Junkins Avenue, Portsmouth, New Hampshire 03801.
Town of New Castle:
Maps available for inspection at the New Castle Town Office, 49 Main Street, New Castle, New Hampshire.
Send comments to Mr. Robert W. Beecher, Chairman of the Town of New Castle Board of Selectmen, Town Hall, P.O. Box 367, New Castle, New Hampshire 03854.
Town of Salem:
Maps available for inspection at the Salem Town Office, 33 Geremonty Drive, Salem, New Hampshire.
Send comments to Ms. Marcia Leighninger, Salem Town Manager, 33 Geremonty Drive, Salem, New Hampshire 03079.
NORTH CAROLINA
Brunswick County
Alligator Swamp | At confluence with Juniper Creek | None | • 39 | Brunswick County (Unincorporated Areas).
| Approximately 3.7 miles upstream of Alligator Road Northwest | None | • 57
Bay Branch | At confluence with Alligator Swamp | None | • 43 | Brunswick County (Unincorporated Areas).
| Approximately 0.5 mile upstream of Exum Road Northwest | None | • 50
Bear Branch | At confluence with Waccamaw River | None | • 31 | Brunswick County (Unincorporated Areas).
| Approximately 0.5 mile upstream of Project Road Northwest | None | • 57
Bear Pen Island Swamp | At confluence with Juniper Creek | None | • 45 | Brunswick County (Unincorporated Areas).
| At downstream side of Green Swamp Road Northwest | None | • 61
Beaverdam Swamp | At confluence with Royal Oak Swamp | None | • 12 | Brunswick County (Unincorporated Areas).
| Approximately 1.5 miles upstream of Landfill Road Northwest | None | • 35
Beaverdam Swamp Tributary | At confluence with Beaverdam Swamp | None | • 12 | Brunswick County (Unincorporated Areas).
| Approximately 1.7 miles upstream of Middle River Road Northeast | None | • 40
Bell Swamp | At confluence with Alligator Swamp | None | • 40 | Brunswick County (Unincorporated Areas).
| Approximately 700 feet upstream of Myrtlehead Road Northwest | None | • 41
Big Bay Branch | At confluence with Middle Swamp | None | • 25 | Brunswick County (Unincorporated Areas), Town of Bolivia.
| Approximately 2,000 feet upstream of Danford Road Southeast | None | • 43
Big Bay Branch Tributary | At confluence with Big Bay Branch | None | • 28 | Brunswick County (Unincorporated Areas), Town of Bolivia.
| Approximately 1,600 feet upstream of Old Ocean Highway | None | • 47
Boggy Branch | At confluence with Red Run | None | • 30 | Brunswick County (Unincorporated Areas).
| Approximately 1.5 miles upstream of confluence with Red Run | None | • 46
Camp Branch (into Alligator Swamp) | At confluence with Alligator Swamp | None | • 40 | Brunswick County (Unincorporated Areas).
| Approximately 1,300 feet upstream of Myrtlehead Road Northwest | None | • 41
Camp Branch (into Honey Island Swamp) | At confluence with Honey Island Swamp | None | • 54 | Brunswick County (Unincorporated Areas).
| Approximately 2,100 feet upstream of Camp Branch Road Northwest | None | • 59
Cawcaw Swamp | At confluence with Waccamaw River | None | • 26 | Brunswick County (Unincorporated Areas).
| Approximately 3.5 miles upstream of Russtown Road Northwest | None | • 62
Clark Branch | At confluence with Lockwoods Folly River | • 11 | • 9 | Brunswick County (Unincorporated Areas).
| Approximately 500 feet upstream of U.S. Highway 17 Bypass | None | • 25
Fall Swamp | At confluence with Royal Oak Swamp | None | • 17 | Brunswick County.
| Approximately 0.9 mile upstream of Makatoka Road Northwest | None | • 55 | (Unincorporated Areas).
Honey Island Swamp | At confluence with Juniper Creek | None | • 43 | Brunswick County.
| Approximately 1.3 miles upstream of Green Swamp Road Northwest | None | • 59 | (Unincorporated Areas).
Juniper Creek | At confluence with Waccamaw River | None | • 35 | Brunswick County.
| Approximately 1,400 feet upstream of Camp Branch Road Northwest | None | • 45
Leonard Branch | At confluence with Juniper Creek | None | • 43 | Brunswick County.
| Approximately 0.6 mile upstream of Exum Road Northwest | None | • 45 | (Unincorporated Areas).
Little Cawcaw Swamp | At confluence with Cawcaw Swamp | None | • 28 | Brunswick County.
| Approximately 2,200 feet upstream of U.S. Highway 17 | None | • 34 | (Unincorporated Areas), Town of Carolina Shores.
Little Saucepan Creek | At confluence with Saucepan Creek | None | • 12 | Brunswick County.
| Approximately 0.3 mile upstream of Pigott Road Southwest | None | • 12 | (Unincorporated Areas).
Middle River | At confluence with Fall Swamp | None | • 19 | Brunswick County.
| Approximately 1.8 miles upstream of Little Macedonia Road Northwest | None | • 48 | (Unincorporated Areas).
Middle Swamp | At confluence with Midway Branch | • 14 | • 12 | Brunswick County.
| Approximately 0.7 mile upstream of Green Lewis Road Southeast | None | •41 | (Unincorporated Areas), Town of Bolivia
Middle Swamp Tributary | At confluence with Middle Swamp | None | •24 | Brunswick County.
| Approximately 0.6 mile upstream of Knox Street | None | •44 | (Unincorporated Areas), Town of Bolivia.
Mill Branch into Juniper Creek | At confluence with Juniper Creek | None | •37 | Brunswick County.
| Approximately 0.5 mile upstream of Myrtlehead Road Northwest | None | •40 | (Unincorporated Areas).
Mill Branch into Wet Ash Swamp | At confluence with Wet Ash Swamp | None | •40 | Brunswick County.
| Approximately 0.8 mile upstream of Big Neck Road Northwest | None | •57 | (Unincorporated Areas).
Muddy Branch | At confluence with Juniper Creek | None | •45 | Brunswick County.
| Approximately 1.0 mile upstream of Makatoka Road Northwest | None | •49 | (Unincorporated Areas).
Mulberry Branch | Approximately 1,500 feet upstream of North Mulberry Road Northwest | •19 | •18 | Brunswick County (Unincorporated Areas) Town of Shallotte.
| Approximately 1.2 miles upstream of Mulberry Road Northwest | None | •30
Read Branch | At confluence with Mill Branch | None | •37 | Brunswick County.
| Approximately 1.6 miles upstream of Myrtlehead Road Northwest | None | •41 | (Unincorporated Areas).
Red Run | Approximately 100 feet downstream of Galloway Road Northeast | None | •30 | Brunswick County.
| Approximately 1.0 mile upstream of Galloway Road Northeast | None | •38
River Swamp | At confluence with Midway Branch | None | •23 | Brunswick County.
| Approximately 2.0 miles upstream of confluence with Midway Branch | None | •43 | (Unincorporated Areas).
Royal Oak Swamp | Approximately 150 feet downstream of U.S. Highway 17 Bypass | None | •9 | Brunswick County, (Unincorporated Areas).
| Approximately 1.2 miles upstream of Royal Oak Road Northwest | None | •46
Scippio Swamp | At confluence with Waccamaw River | None | •27 | Brunswick County.
| Approximately 0.5 mile upstream of Russtown Road Northwest | None | •45
South Prong Wet Ash Swamp | At confluence with Wet Ash Swamp | None | •40 | Brunswick County.
| Approximately 1.1 miles upstream of Big Neck Road | None | •56 | (Unincorporated Areas).
Wet Ash Swamp | At confluence with Waccamaw River | None | •30 | Brunswick County.
| Approximately 0.8 mile upstream of NC Highway 130 | None | •40 | (Unincorporated Areas).
Waccamaw River | At State boundary | None | •25 | Brunswick County.
| At confluence with Juniper Creek | None | •35 | (Unincorporated Areas).
Midway Branch | At confluence with Lockwoods Folly River | •14 | •12 | Brunswick County, (Unincorporated Areas).
| Approximately 3.7 miles upstream of Midway Road Southeast | None | •45
Calabash River | Approximately 1.0 mile upstream of confluence of Calabash Creek | None | •12 | Brunswick County, (Unincorporated Areas), Town of Sunset Beach.
| Approximately 2.1 miles upstream of confluence of Calabash Creek | None | •16
Calabash River Tributary | At confluence with Calabash River | None | •12 | Brunswick County.
| Approximately 1,300 feet upstream of Rice Mill Circle Southwest | None | •17 | (Unincorporated Areas), Town of Sunset Beach.
Doe Creek | Approximately 0.2 mile upstream of the confluence of Polly Swain Branch | None | •13 | Brunswick County, (Unincorporated Areas).
| Approximately 0.8 mile upstream of the confluence of Polly Swain Branch | None | •19
Goose Creek | Approximately 1,200 feet downstream of Bricklanding Road Southwest | None | •12 | Brunswick County (Unincorporated Areas).
| Approximately 500 feet upstream of Landing Boulevard Southwest | None | •17
Jinnys Branch | Approximately 8,000 feet downstream of Bricklanding Road Southwest | None | •12 | Brunswick County (Unincorporated Areas).
| Approximately 0.6 mile downstream of Stone's Throw Drive Southwest | None | •26
Lockwoods Folly River | At the confluence of Nucitt Branch | None | •42 | Brunswick County (Unincorporated Areas).
| At the confluence of Red Run/Pinch Gut Creek | None | •26
Mercers Mill Pond | At confluence with Mill Creek | None | •11 | Brunswick County (Unincorporated Areas).
| Approximately 1.1 miles downstream of Southport Supply Road Southeast | None | •19
Nucitt Branch | At confluence with Lockwoods Folly River | •10 | •9 | Brunswick County (Unincorporated Areas).
| Approximately 3,700 feet downstream of Clemmons Road Southeast | None | •18
Pamlico Creek | Approximately 0.5 mile upstream of confluence with Lockwoods Folly River | None | •10 | Brunswick County (Unincorporated Areas).
| Approximately 200 feet downstream of Stanley Road Southwest | None | •19
Shallotte River | Approximately 1,900 feet upstream of U.S. Highway 17 | None | •12 | Brunswick County (Unincorporated Areas), Town of Shallotte.
| Approximately 2.3 miles upstream of Ocean Isle Beach Road Southwest | None | •26
Scott Branch | At the downstream side of Old Lennon Road Southeast | None | •9 | Brunswick County (Unincorporated Areas).
| Approximately 100 feet downstream of Southport Supply Road Southeast | None | •15
Sharron Creek | Approximately 0.7 mile upstream of Gray Bridge Road Southwest | None | •10 | Brunswick County (Unincorporated Areas).
| Approximately 400 feet downstream of Holden Beach Road Southwest | None | •10
The Mill Pond | Approximately 50 downstream of Copas Road Southwest | None | •11 | Brunswick County (Unincorporated Areas).
| At Village Point Road Southwest | None | •22
Williams Branch | Approximately 150 feet downstream of Holden Beach Road Southwest | None | •10 | Brunswick County (Unincorporated Areas).
| Approximately 100 feet upstream of Lula Trail Southwest | None | •21
Pinch Gut Creek | At the confluence with Lockwoods Folly River | •25 | •26 | Brunswick County (Unincorporated Areas).
| Approximately 0.2 mile upstream of the confluence with Lockwoods Folly River | •25 | •26
Atlantic Ocean | Approximately 1,000 feet southeast of the intersection of Heritage Drive Southwest and NC-179 | •13 | •14 | Brunswick County (Unincorporated Areas), Towns of Sunset Beach, Ocean Isle Beach, Holden Beach.
| Approximately 200 feet south of the intersection of Goldsboro Street and 1st Street | •20 | •21
Brunswick County (Unincorporated Areas)
Maps available for inspection at the Brunswick County (Unincorporated Areas) Planning Department, 20 Referendum Drive, Bolivia, North Carolina.
Send comments to Mr. Marty Lawing, Brunswick County (Unincorporated Areas) Manager, P.O. Box 249, Bolivia, North Carolina 28422-0249.
Town of Bolivia
Maps available for inspection at the Bolivia Town Hall, U.S. Highway 17 Business East, Bolivia, North Carolina.
Send comments to The Honorable Dewey Smith, Mayor of the Town of Bolivia, P.O. Box 93, Bolivia, North Carolina 28422-0864.
Town of Carolina Shores
Maps available for inspection at the Carolina Shores Town Hall, 200 Persimmon Road, Carolina Shores, North Carolina.
Send comments to The Honorable Daniel A. Mann, Mayor of the Town of Carolina Shores, P.O. Box 4038, Carolina Shores, North Carolina 28467-4038.
Town of Holden Beach
Maps available for inspection at the Holden Beach Town Hall, 110 Rothschild Street, Holden Beach, North Carolina.
Send comments to The Honorable Norman Meares, Mayor of the Town of Holden Beach, 110 Rothschild Street, Holden Beach, North Carolina 28462.
Town of Ocean Isle Beach
Maps available for inspection at the Ocean Isle Beach Town Hall, 3 West Third Street, Ocean Isle Beach, North Carolina.
Send comments to The Honorable Debbie Smith, Mayor of the Town of Ocean Isle Beach, 3 West Third Street, Ocean Isle Beach, North Carolina 28469.
Maps available for inspection at the Shallotte Town Hall, 110 Cheers Street, Shallotte, North Carolina.
Send comments to The Honorable Gerald L. Long, Mayor of the Town of Shallotte, P.O. Box 2287, Shallotte, North Carolina 28459-2287.
Town of Sunset Beach
Maps available for inspection at the Sunset Beach Town Hall, 700 Sunset Boulevard—North, Sunset Beach, North Carolina.
Send comments to the Honorable Cherri Cheek, Mayor of the Town of Sunset Beach, 700 Sunset Boulevard—North, Sunset Beach, North Carolina 28468.
NORTH CAROLINA
Chowan County
Burnt Mill Creek | At a point just upstream of Burnt Mill Road | None | • 6 | Chowan County (Unincorporated Areas).
| Approximately 1,000 feet upstream of U.S. Highway 17 | None | • 13
Goodwin Mill Creek | Approximately 1.7 miles upstream of Center Hill Road | None | • 14 | Chowan County (Unincorporated Areas).
| At Center Hill Road | None | • 14
Chowan County (Unincorporated Areas)
Maps available for inspection at the Chowan County Land Records Office, South Broad Street, Edenton, North Carolina.
Send comments to Mr. Luther C. Copeland, Jr., Chowan County Manager, P.O. Box 1030, Edenton, North Carolina 27932.
NORTH CAROLINA
Perquimans County
Bethel Creek | At Burnt Mill Road | None | • 6 | Perquimans County (Unincorporated Areas).
| Approximately 1.0 mile upstream of U.S. Highway 13 | None | • 11
Burnt Mill Creek | At the upstream side of Burnt Mill Road | None | • 6 | Perquimans County (Unincorporated Areas).
| Approximately 1,000 feet upstream of U.S. Highway 17 | None | • 13
Burnt Mill Creek Tributary 1 | At the confluence with Burnt Mill Creek | None | • 6 | Perquimans County (Unincorporated Areas).
| Approximately 0.6 mile upstream of U.S. Highway 17 | None | • 13
Burnt Mill Creek Tributary 1A | At confluence with Burnt Mill Creek Tributary 1 | None | • 6 | Perquimans County (Unincorporated Areas).
| Approximately 0.7 mile upstream of U.S. Highway 17 | None | • 17
Goodwin Mill Creek | At Beach Springs Road | None | • 6 | Perquimans County (Unincorporated Areas).
| Approximately 0.4 mile upstream of North Bear Swamp Road | None | • 15
Goodwin Mill Creek Tributary 1 | At Goodwin Mill Road | None | • 6 | Perquimans County (Unincorporated Areas).
| Approximately 0.5 mile upstream of Goodwin Mill Road | None | • 12
Goodwin Mill Creek Tributary 2 | At confluence with Goodwin Mill Creek | None | • 12 | Perquimans County (Unincorporated Areas).
| Approximately 1.5 miles upstream of Center Hill Highway | None | • 15
Little River | Approximately 1.5 miles upstream of U.S. Highway 17 | None | • 9 | Perquimans County (Unincorporated Areas).
| Approximately 600 feet downstream of Sandy Road | None | • 10
Mill Creek | Approximately 400 feet downstream of Lake Road | • 6 | • 7 | Town of Winfall, Perquimans County (Unincorporated Areas).
| Approximately 0.3 mile downstream of Four Mile Desert Road | None | • 11
Mill Creek Tributary 1 | At the confluence with Mill Creek | None | • 9 | Perquimans County (Unincorporated Areas).
| Approximately 0.9 mile upstream of Swing Gate Road | None | • 12
Mill Creek Tributary 2 | At the confluence with Mill Creek | None | • 10 | Perquimans County (Unincorporated Areas).
| Approximately 0.9 mile upstream of Swing Gate Road | None | • 14
Perquimans River | Approximately 2.6 miles downstream of Gates County boundary | None | • 11 | Perquimans County (Unincorporated Areas).
| Approximately 150 feet downstream of Gates County boundary | None | • 11
Perquimans River Tributary 2 | Approximately 0.3 mile upstream of the confluence with Perquimans River | None | • 6 | Town of Hertford, Perquimans County (Unincorporated Areas).
| Approximately 850 feet upstream of Layden Road | None | • 10
Sutton Creek | Approximately 1,000 feet downstream of the confluence with Sutton Creek Tributary 3 | None | • 6 | Perquimans County (Unincorporated Areas).
| Approximately 1,000 feet upstream of U.S. Highway 17 | None | • 13
Sutton Creek Tributary 3 | At the confluence with Sutton Creek | None | •6 | Perquimans County
| Approximately 1,300 feet upstream of U.S. Highway 17 | None | •13 | (Unincorporated Areas)
Sutton Creek Tributary 4 | At the confluence with Sutton Creek | None | •6 | Perquimans County
| Approximately 2.2 miles upstream of the confluence with Sutton Creek | None | •12 | (Unincorporated Areas)
Sutton Creek Tributary 5 | At the confluence with Sutton Creek | None | •7 | Perquimans County
| Approximately 600 feet downstream of U.S. Highway 17 | None | •10 | (Unincorporated Areas)
Sutton Creek Tributary 6 | At the confluence with Sutton Creek | None | •8 | Perquimans County
| Approximately 0.7 mile upstream of U.S. Highway 17 | None | •11 | (Unincorporated Areas)
Sutton Creek Tributary 7 | At the confluence with Sutton Creek |  |  | Perquimans County
| Approximately 1.1 miles upstream of the confluence with Sutton Creek |  |  | (Unincorporated Areas)
Town of Hertford
Maps available for inspection at the Hertford Town Hall, 114 West Grubb Street, Herford, North Carolina.
Send comments to The Honorable James S. Eley, Mayor of the Town of Hertford, P.O. Box 32, Hertford, North Carolina 27944.
Perquimans County (Unincorporated Areas)
Maps available for inspection at the Perquimans County Courthouse, 110 North Church Street, Hertford, North Carolina.
Send comments to Mr. Wallace Nelson, Chairman of the Perquimans County Board of Commissioners, P.O. Box 45, Hertford, North Carolina 27944.
Town of Winfall
Maps available for inspection at the Winfall Town Hall, 100 Park View Lane, Winfall, North Carolina.
Send comments to The Honorable Fred Yates, Mayor of the Town of Winfall, P.O. Box 275, Winfall, North Carolina 27985.
NORTH CAROLINA
Various Communities in Washington County
Beaver Dam Branch | At the confluence with Kendricks Creek | None | •6 | Washington County (Unincorporated Areas), Town of Roper
| Approximately 1.9 miles upstream of Cross Road | None | •10 | Roper
Beaver Dam Branch Tributary 1 | At the confluence with Beaver Dam Branch | •10 | •6 | Washington County (Unincorporated Areas)
| Approximately 0.5 mile upstream of Highway 64 | None | •16 |
Chapel Swamp | Upstream side of Loop Road/Beasley Road Crossing | None | •6 | Washington County (Unincorporated Areas)
| Upstream side of Loop Road/Beasley Road Crossing | None | •6 | Washington County (Unincorporated Areas)
| Approximately 0.7 mile upstream of Beasley Road Extension | None | •10 |
Kendricks Creek | Approximately 1.1 miles downstream of the confluence with Beaver Dam Branch | None | •9 | Washington County (Unincorporated Areas), Town of Roper
| Approximately 0.6 mile upstream of West Mill Pond Road | None | •12 |
Lee's Mill Creek | Upstream side of U.S. Highway 64/NC 32 | None | •6 | Washington County (Unincorporated Areas)
| Approximately 0.5 mile upstream of Downing Road | None | •11 |
Main Canal | At the confluence with Kendricks Creek | None | •6 | Washington County (Unincorporated Areas). Town of Roper
| Approximately 0.8 mile upstream of Highway 64/NC 32 | None | •12 |
Pleasant Grove Creek | At U.S. Highway 64/NC 32 | None | •6 | Washington County (Unincorporated Areas)
| Approximately 1.6 miles upstream of Holly Neck Road | None | •10 | (Unincorporated Areas)
Pungo River Canal | Approximately 0.9 mile downstream of Route 99 | None | •9 | Washington County (Unincorporated Areas)
| Approximately 700 feet downstream of Route 99 | None | •10 |
Town of Roper
Maps available for inspection at the Washington County Planning and Safety Department, 2nd floor, 120 Adams Street, Plymouth, North Carolina.
Send comments to The Honorable Estelle Sanders, Mayor of the Town of Roper, P.O. Box 217, Roper, North Carolina 27970.
Unincorporated Areas of Washington County
Maps available for inspection at the Washington County Planning and Safety Department, 2nd floor, 120 Adams Street, Plymouth, North Carolina.
Send comments to Mr. Chris Coudriet, Washington County Manager, P.O. Box 1007, Plymouth, North Carolina 27962.
| Approximately 0.9 mile southwest of the intersection of Garland Road and Bay View Drive | *14 | *17 |
Wando River/Atlantic Ocean | Approximately 2,000 feet west of the intersection of Sugar Cane Way and 6th Street | *12 | *13 | Town of Mount Pleasant, City of Charleston
| Approximately 1,800 feet north of the intersection of Molasses Lane and Hobcandt Drive | *12 | *16 |
Ashley River/Atlantic Ocean | Approximately 0.4 mile east of the intersection of Albemarle Road and Ashley Point Road | *17 | *13 | City of North Charleston, City of Charleston
| Approximately 1,600 feet east of the intersection of Mill Street and Albemarle Road | *17 | *16 |
Cooper River/Atlantic Ocean | Approximately 0.8 mile southeast of the intersection of Partridge Avenue and Juneau Street | None | *12 | City of North Charleston, City of Charleston
| At the confluence with Wando River and Charleston Harbor | *14 | *17 |
Charleston County (Unincorporated Areas)
Maps available for inspection at the Charleston County Building Services, 4045 Bridge View Drive, North Charleston, South Carolina 29405-7464.
Send comments to Mr. Roland H. Windham, Jr., Charleston County Administrator, 4045 Bridge View Drive, North Charleston, South Carolina 29405-7464.
City of Charleston
Maps available for inspection at the Charleston City Hall, 75 Calhoun Street, Division 301, Charleston, South Carolina 29401.
Send comments to The Honorable Joseph P. Riley, Jr., Mayor of the City of Charleston, P.O. Box 652, Charleston, South Carolina 29401.
Town of Mount Pleasant
Maps available for inspection at the Mount Pleasant Town Hall, 100 Ann Edwards Lane, Mount Pleasant, South Carolina.
Send comments to The Honorable Harry Hallman, Jr., Mayor of the Town of Mount Pleasant, P.O. Box 745, Mount Pleasant, South Carolina 29465.
City of North Charleston
Maps available for inspection at the North Charleston City Hall, 4900 Lacrosse Road, North Charleston, South Carolina 29406-6501.
Send comments to The Honorable Keith Summey, Mayor of the City of North Charleston, 4900 Lacrosse Road, North Charleston, South Carolina 29406-6501.
SOUTH CAROLINA
Greenville County
Big Durbin Creek Tributary 1 | At the confluence with Big Durbin Creek | •785 | •787 | Greenville County (Unincorporated Areas), City of Simpsonville
| Approximately 650 feet upstream of the confluence with Big Durbin Creek | •788 | •789 |
Gilder Creek | At the confluence with Enoree River | •677 | •676 | Greenville County (Unincorporated Areas), City of Mauldin
| Approximately 450 feet upstream of McDougal Court | None | •907 |
Gilder Creek Tributary 1 | At the confluence with Gilder Creek | •812 | •813 | City of Mauldin
| Approximately 750 feet upstream of the confluence with Gilder Creek | •814 | •815 |
Gilder Creek Tributary 2 | At the confluence with Gilder Creek | •819 | •825 | City of Mauldin
| Approximately 550 feet upstream of the confluence of Gilder Creek | •824 | •825 |
Gilder Creek Tributary 3 | At the confluence with Gilder Creek | •820 | •825 | Greenville County (Unincorporated Areas), City of Mauldin
| Approximately 1,500 feet upstream of the confluence of Gilder Creek | •826 | •827 |
Gilder Creek Tributary 3A | Approximately 50 feet upstream of the confluence with Gilder Creek Tributary 3 | •828 | •829 | Greenville County (Unincorporated Areas), City of Mauldin
| Approximately 150 feet upstream of U.S. Interstate 385 | •889 | •890 |
Gilder Creek Tributary 4 | At confluence with Gilder Creek | •795 | •798 | Greenville County (Unincorporated Areas), City of Mauldin
| Approximately 1,085 feet upstream of Substation Dam | None | •931
Laurel Creek | At the confluence with Reedy River | •767 | •769 | Greenville County (Unincorporated Areas), City of Greenville, City of Mauldin
| Approximately 200 feet upstream of Interstate 85 | •879 | •878 |
Reedy River Tributary 4 | Approximately 1,235 feet upstream of the confluence with Reedy River | •745 | •746 | Greenville County (Unincorporated Areas), City of Mauldin River
| Approximately 175 feet upstream of Owens Lane | None | •903 |
Reedy River Tributary 5 | At the confluence with Reedy River Tributary 4 | None | •799 | Greenville County (Unincorporated Areas), City of Mauldin
| Approximately 1.26 miles upstream of Ashmore Bridge Road | None | •900 |
Baker Creek | At the confluence with Huff Creek | None | •693 | Greenville County (Unincorporated Areas).
| Approximately 190 feet upstream of Greybridge Road | None | •780
Big Durbin Creek Tributary 1 | At the confluence with Big Durbin Creek | •785 | •787 | Greenville County.
| Approximately 650 feet upstream of the confluence with Big Durbin Creek | •788 | •789 | (Unincorporated Areas), City of Simpsonville.
Brushy Creek Tributary 2 | At the confluence with Brushy Creek | •842 | •841 | City of Greenville.
| Approximately 40 feet upstream of Meyers Drive | None | •894
Enoree River Tributary 1 | Approximately 150 feet upstream of the confluence with Enoree River | None | •780 | Greenville County (Unincorporated Areas), City of Greer.
| Approximately 2,540 feet upstream of East Suber Road | None | •890
Enoree River Tributary 2 | Just upstream of East Suber Road | None | •820 | Greenville County.
| Approximately 175 feet upstream of Hood Road | None | •903 | (Unincorporated Areas), City of Greer.
Gilder Creek | At the confluence with Enoree River | •677 | •676 | Greenville County.
| Approximately 450 feet upstream of McDougal Court | None | •907 | (Unincorporated Areas), City of Mauldin.
Gilder Creek Tributary 3 | At the confluence with Gilder Creek | •820 | •825 | Greenville County.
| Approximately 1,500 feet upstream of the confluence of Gilder Creek | •826 | •827 | (Unincorporated Areas), City of Mauldin.
Gilder Creek Tributary 3A | Approximately 50 feet upstream of the confluence with Gilder Creek Tributary 3 | •828 | •829 | Greenville County (Unincorporated Areas), City of Mauldin.
| Approximately 150 feet upstream of U.S. Interstate 385 | •889 | •890
Gilder Creek Tributary 4 | At confluence with Gilder Creek | •795 | •798 | Greenville County
| Approximately 1,085 feet upstream of Substation Dam | None | •931 | (Unincorporated Areas), City of Mauldin.
Graze Creek | Approximately 650 feet upstream of Browns Lane | •738 | •737 | Greenville County (Unincorporated Areas).
| Approximately 400 feet upstream of McKinney Road | •781 | •782
Grove Creek | At Emily Lane | None | •772 | Greenville County.
| Approximately 75 feet upstream of Fairview Boulevard | None | •848 | (Unincorporated Areas).
Huff Creek | At the confluence with Reedy River | None | •656 | Greenville County.
| Approximately 1.25 miles upstream of West Georgia Road | None | •756 | (Unincorporated Areas).
Laurel Creek | At the confluence with Reedy River | •767 | •769 | Greenville County.
| Approximately 200 feet upstream of Interstate 85 | •879 | •878 | (Unincorporated Areas), City of Greenville, of Mauldin.
Laurel Creek Tributary | At the confluence with Laurel Creek | None | •781 | Greenville County.
| Approximately 0.95 mile upstream of Ridge Road | •867 | •868 | (Unincorporated Areas), City of Greenville.
Little Creek | At the confluence with Huff Creek | None | •664 | Greenville County.
| Approximately 3,800 feet upstream of the dam | None | •778 | (Unincorporated Areas).
Payne Branch | At the county boundary | None | •681 | Greenville County.
| Approximately 120 feet upstream of Tall Pines Road | None | •750 | (Unincorporated Areas).
Reedy River | Approximately 1.0 mile downstream of the confluence of Huff Creek | None | •650 | Greenville County (Unincorporated Areas).
| Approximately 3,100 feet upstream of the Log Shoals Road | None | •744
Reedy River Tributary 4 | Approximately 1,235 feet upstream of the confluence with Reedy River | •745 | •746 | Greenville County (Unincorporated Areas), City of Mauldin.
| Approximately 175 feet upstream of Owens Lane | None | •903
Reedy River Tributary 5 | At the confluence with Reedy River Tributary 4 | None | •799 | Greenville County River (Unincorporated Areas), City of Mauldin.
| Approximately 1.26 miles upstream of Ashmore Bridge Road | None | •900
Richland Creek Tributary 1 | At the confluence with Richland Creek | •856 | •855 | City of Greenville.
| Approximately 175 feet upstream of Azalea Court | None | •965
Richland Creek Tributary 1A | At the confluence with Richland Creek Tributary 1 | •879 | •881 | City of Greenville.
| Approximately 500 feet upstream of Keith Drive | None | •947
Richland Creek Tributary 1B | At the confluence with Richland Creek Tributary 1 | None | •960 | City of Greenville.
| Approximately 65 feet upstream of Greenland Drive/Dera Drive | None | •979
Rock Creek | Approximately 1,050 feet downstream of Alder Drive | None | •743 | Greenville County (Unincorporated Areas).
| Approximately 1,760 feet upstream of Capewood Road | None | •772
Rocky Creek | At the confluence with Enoree River | •713 | •712 | Greenville County.
| Approximately 490 feet upstream of Frontage Road | None | •1,001 | (Unincorporated Areas), City of Greenville.
South Tyger River | Approximately 200 feet downstream of State Route 14 | None | •822 | Greenville County (Unincorporated Areas).
| Approximately 180 feet upstream of State Route 414 | None | •928
City of Greenville
Maps available for inspection at the Greenville City Hall, 206 South Main Street, Greenville, South Carolina.
Send comments to the Honorable Knox H. White, Mayor of the City of Greenville, P.O. Box 2207, Greenville, South Carolina 29602.
Greenville County (Unincorporated Areas)
Maps available for inspection at the Greenville County Codes Department, 301 University Ridge, Greenville, South Carolina.
Send comments to Mr. John Brausch, Greenville County Interim Administrator, 301 University Ridge, Suite 2400, Greenville, South Carolina 29601.
City of Greer
Maps available for inspection at the Greer City Hall, 106 South Main Street, Greer, South Carolina.
Send comments to the Honorable Rick Danner, Mayor of the City of Greer, 106 South Main Street, Greer, South Carolina 29650.
City of Mauldin
Maps available for inspection at the Mauldin City Hall, 5 East Butler Avenue, Mauldin, South Carolina.
Send comments to the Honorable Lloyd S. Green, Sr., Mayor of the City of Mauldin, P.O. Box 249, Mauldin, South Carolina 29662.
City of Simpsonville
Maps available for inspection at the Simpsonville City Hall, 118 Northeast Main Street, Simpsonville, South Carolina.
Send comments to the Honorable Dennis Waldrop, Mayor of the City of Simpsonville, 118 Northeast Main Street, Simpsonville, South Carolina 29681.

(Catalog of Federal Domestic Assistance No. 83.100, “Flood Insurance.”)
Dated: December 18, 2003.
Anthony S. Lowe,
Mitigation Division Director, Emergency Preparedness and Response Directorate.

[FR Doc. 04-162 Filed 1-5-04; 8:45 am]

BILLING CODE 9110-12-P